ENVIRONMENTAL PROTECTION AGENCY

40 CFR Part 180

[EPA-HQ-OPP-2006-0766; FRL-8801-2]

RIN 2070-AJ28

Pesticide Tolerance Crop Grouping Program II; Revision to General Tolerance Regulations

AGENCY: Environmental Protection Agency (EPA).

ACTION: Proposed rule.

SUMMARY: EPA is proposing revisions to its pesticide tolerance crop grouping regulations, which allow establishment of tolerances for multiple related crops, based on data from a representative set of crops. The present revision would create a new crop group for oilseeds, expand existing crop groups by adding new commodities, establish new crop subgroups, and revise the representative crops in some groups. EPA expects these revisions to promote greater use of crop groupings for tolerance-setting purposes and, in particular, will assist in making available lower risk pesticides for minor crops both domestically and in countries that export food to the United States. This is the second in a series of planned crop group updates expected to be proposed over the next several years. EPA is also proposing to delete 40 CFR 180.1(h) which addresses when tolerances apply to post-harvest uses.

DATES: Comments must be received on or before March 8, 2010.

ADDRESSES: Submit your comments, identified by docket identification (ID) number EPA-HQ-OPP-2006-0766, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2006-0766. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Ramé Cromwell, Field and External Affairs Division, Office of Pesticide Programs, Environmental Protection Agency, 1200 Pennsylvania Ave., NW., Washington, DC 20460-0001; telephone number: (703) 308-9068; fax number: (703) 305-5884; e-mail address: cromwell.rame@epa.gov.

SUPPLEMENTARY INFORMATION:

I. General Information

A. Does this Action Apply to Me?

You may be potentially affected by this action if you are an agricultural producer, food manufacturer. Potentially affected entities may include, but are not limited to: Crop production (NAICS code 111), e.g., agricultural workers; greenhouse, nursery, and floriculture workers; farmers.

Animal production (NAICS code 112), e.g., cattle ranchers and farmers, dairy cattle farmers, livestock farmers.

Food manufacturing (NAICS code 311), e.g., agricultural workers; farmers; greenhouse, nursery, and floriculture workers; ranchers; pesticide applicators.

Pesticide manufacturing (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. Tolerance-Setting Requirements and Petition from Inter-regional Research Project Number 4 Program to Expand the Existing Crop Grouping System

EPA is authorized to establish maximum residue limits or “tolerances” for pesticide chemical residues in food under section 408 of the Federal Food, Drug and Cosmetic Act (FFDCA) (21 U.S.C. 346a). EPA establishes pesticide tolerances only after determining that aggregate exposure to the pesticide is safe. The U.S. Food and Drug Administration and the U.S. Department of Agriculture together enforce compliance with tolerance limits.

Traditionally, tolerances are established for a specific pesticide/commodity combination. However, under EPA’s crop grouping regulation (40 CFR 180.41) a single tolerance may be established that applies to a group of related commodities. For example, the citrus crop group covers 11 different citrus fruits including oranges, grapefruit, lemons, and limes among others. Crop group tolerances may be established based on residue data only on designated representative commodities within the group. Representative commodities are selected based on EPA’s determination that they are likely to bear the maximum level of residue that could occur on any crop within the group. Once the group tolerance is established, the tolerance level applies to all agricultural commodities within the group. It is also possible to request a crop group tolerance with a particular member of the crop excluded. An example of exclusion to a crop group would be a tolerance for the Stone Fruit group 12, except peach. In this crop group, residue data for cherry and plum are used to establish a group tolerance for the stone fruit group, except peach. Exclusions are requested when variations in residue levels within a group for a particular pesticide make a crop group tolerance otherwise inappropriate. See 40 CFR 180.40(h).

This proposed rule is the second in a series of planned crop group revisions expected to be completed over the next several years. Specific information regarding the history of the crop group regulations, the previous amendments to the regulations and the process for revising crop groups can be found in the Federal Register of December 7, 2007 (72 FR 69150). Specific information regarding how the Agency implements crop group revisions can be found in the 40 CFR 180.40(j).

Today’s proposal is based upon four petitions developed by the International Crop Groupings Consulting Committee (ICGCC) workgroup and submitted to EPA by a nation-wide cooperative effort called the Inter-regional Research Project Number 4 (IR-4). These petitions and the monographs supporting them have been included in the docket for the proposed rule. EPA expects that a series of additional petitions seeking amendments and changes to the crop groupings regulations (40 CFR 180.41) will originate from the ICGCC workgroup over the next few years.

B. International Considerations

1. NAFTA partner involvement in this proposal. EPA’s Chemistry Science Advisory Council (ChemSAC), an internal Agency peer review committee, provided a detailed analysis for each proposed crop group to Canada’s Pest Management Regulatory Agency (PMRA), IR-4, and the government of Mexico for their review and comment and invited these parties to participate in the ChemSAC meeting to finalize the recommendation of the petitions. PMRA has indicated that it will in parallel with the United States (U.S.) effort and under the authority of Canada’s Pest Control Products (PCP) Act (2002) establish equivalent crop groups. Once the new or updated crop groups become effective in the United States, Mexico will have them as a reference for the establishment of maximum residue limits in Mexico.

EPA will provide a ‘‘reviewer’s guide’’ describing the crop grouping amendments and explaining how to express the changes to the crop group in the Federal Register to IR-4 and PMRA in support of implementation and to inform the regulatory community.

2. Relationship of this proposal to Codex activities. The delegations of the United States and Canada to the Codex Committee on Pesticide Residues (CCPR) continued efforts in 2009 to harmonize the NAFTA crop groups and representative commodities with those being developed by Codex as part of their revision of the Codex Classification of Foods and Feeds. Canada, the United States, and IR-4 are working closely with the chair of the Codex group (Netherlands and the United States) to coordinate the U.S. crop group revisions with the revised crop groups going into Codex. The goals are to expand the crops in each group to include numerous minor crops, to minimize differences within and among the United States and Codex groups, and to develop representative commodities for each group that will be acceptable on an international basis. To date, CCPR has advanced eight crop groups in the adoption process.

C. Specific Revisions—Phasing out Pre-existing Crop Groups

This section explains the revisions to the crop group regulations in the first final rule dated December 7, 2007 (72 FR 69150) and should be used for guidance.

EPA has amended the generic crop group regulations to include an explicit scheme for how revised crop groups will be organized in the regulations.

In brief, the regulations now specify that when a crop group is amended in a manner that expands or contracts its coverage of commodities, EPA will: (1) Retain the pre-existing crop group in 40 CFR 180.41; (2) insert the revised crop group immediately after the pre-existing crop group in 40 CFR 180.41; and (3) title the revised crop group in a way that clearly differentiates it from the pre-existing crop group. The revised crop group will retain roughly the same name and number as the pre-existing group except that the number will be followed by a hyphen and the final two digits of the year it is established. Where additions to a crop group make the pre-existing crop group name misleading, EPA will amend the name as well as the number. For example, today EPA is proposing to revise Crop Group 8: Fruiting Vegetables Group (Except Cucurbits). The revised group will be titled Crop Group 8-09: Fruiting Vegetable Group.

Tolerances established for revised crop groups will include the new number (and new name, if applicable) so that it is apparent on the face of the tolerance regulation what commodities are covered. Similarly, it will be clear what tolerances for pre-existing crop groups are covered since these existing tolerance regulations use the pre-existing crop group names.

Although EPA will initially retain pre-existing crop groups that have been superseded by revised crop groups, EPA will not establish new tolerances under the pre-existing groups. Further, EPA plans to eventually convert tolerances for any pre-existing crop groups to tolerances with the coverage of the revised crop group. This conversion will be effected both through the registration review process and in the course of establishing new tolerances for a pesticide. To this end, EPA requests that petitioners for tolerances address this issue in their petitions. For example, assuming EPA adopts the amendment to Crop Group 8: Fruiting Vegetables (Except Cucurbits.), any tolerance petition for a pesticide that has a Group 8 tolerance should include a request that the Group 8 tolerance be amended to a Group 8-09 tolerance, since the representative commodities are equivalent. When all crop group tolerances for a superseded crop group have been revised or removed, EPA will remove the superseded group from § 180.41.

III. Specific Proposed Revisions

A. Crop Group 8-09 Fruiting Vegetables Group

EPA is proposing to revise the fruiting vegetables crop group in the following manner.

1. Change name. EPA proposes to change the pre-existing name Crop Group 8, Fruiting Vegetables (Except Cucurbits) by dropping the parenthetical “(Except Cucurbits).” The term “Except Cucurbits” is not necessary in the group name because cucurbits are not included in the listed commodities for the group; this parenthetical has not been used for establishing tolerances for this fruiting vegetables group since 2002, and cucurbits have their own crop group specifically labeled the “Crop Group 9: Cucurbits Vegetable Group,” 40 CFR 180.41(c)(10).

2. Add commodities. EPA proposes to amend the existing Crop Group 8 by expanding it from 6 to 21 commodities. The existing crop group consists of the following six commodities: (1) Eggplant, Solanum melongena; (2) Ground cherry, Physalis spp.; (3) Pepino, Solanum muricatum; (4) Pepper, Capsicum spp., includes bell pepper, chili pepper, cooking pepper, pimento, sweet pepper; (5) Tomatillo, Physalis ixocarpo; (6) Tomato, Lycopersicum esculentum.

EPA proposes to expand Crop Group 8-09 to include 15 commodities as follows: (1) African eggplant, Solanum macrocarpon L.; (2) Bush tomato, Solanum centrale J.M. Black; (3) Cocona, Solanum sessiliflorum Dunal; (4) Currant tomato, Lycopersicon pimpinellifolium (L.) Mill.; (5) Garden huckleberry, Solanum scabrum Mill.; (6) Goji berry, Lycium barbarum L.; (7) Martynia, Proboscidea louisianica (Mill.) Thell.; (8) Naranjilla, Solanum quitoense Lam.; (9) Okra, Abelmoschus esculentus (L.) Moench; (10) Pea eggplant, Solanum torvum Sw.; (11) Pepper, nonbell, Capsicum Chinese Jacq., C. annuum L. var. annuum , C. frutescens L., C. baccatum L., C. pubescens Ruiz & Pav., Capsicum spp.; (12) Roselle, Hibiscus sabdariffa L.; (13) Scarlet eggplant, Solanum aethiopicum L.; (14) Sunberry, Solanum retroflexum Dunal; (15) Tree tomato, Solanum betaceum Cav.; including cultivars, varieties and/or hybrids of these commodities.

Commodities are being added to this crop group based on similarities and characteristics of Solanaceae or the Nightshade plant family which includes most of the fruiting vegetable group. These added crops have similar cultural practices, edible food portions, geographical locations, pest problems, established tolerances and similar exposure to residue levels.

Additionally, increased demand for these fruiting vegetables by U.S. growers and consumers has led to increased production of these commodities in the United States and this increased production has led to heightened demand for pesticides for a wide range of fruiting vegetables. Expanding the crop group will facilitate pesticide availability for fruiting vegetables. Increasing the variety of available pesticides for a crop enables U.S. growers to develop integrated pest management programs (IPM), which can minimize pest resistance.

3. Change the names of representative commodities. EPA proposes to change the name of the representative commodity for the crop group “one cultivar of non-bell pepper” by deleting the hyphen from the term non-bell pepper. This change merely adopts current commodity vocabulary designations.

4. Create crop subgroups. EPA proposes to add three crop subgroups to the revised crop group. The subgroups are:

i. Subgroup 8-09A. Tomato subgroup. Representative commodity. Tomato, standard size and one cultivar of small tomato. Eleven commodities are included in this subgroup: Bush tomato; Cocona; Currant tomato; Garden huckleberry; Goji berry; Groundcherry; Naranjilla; Sunberry; Tomatillo; Tomato; Tree tomato; including cultivars, varieties and/or hybrids of these commodities.

ii. Subgroup 8-09B. Pepper/Eggplant subgroup. Representative commodities. Bell pepper and one cultivar of nonbell pepper. Ten commodities are included in this subgroup: African eggplant; Bell pepper; Eggplant; Martynia; Nonbell pepper; Okra; Pea eggplant; Pepino; Roselle; Scarlet eggplant; including cultivars, varieties and/or hybrids of these commodities.

iii. Subgroup 8-09C. Nonbell Pepper/Eggplant subgroup. Representative commodities. One cultivar of small nonbell pepper or one cultivar of small eggplant. Nine commodities are included in this subgroup: African eggplant; Martynia; Eggplant; Nonbell pepper; Okra; Pea eggplant; Pepino; Roselle; Scarlet eggplant; including cultivars, varieties and/or hybrids of these commodities.

The creation of these subgroups and the choice of representative commodities for these subgroups are based on similarities in pest pressures, cultural practices, and the edible portion of the commodity. EPA has also determined that residue data on the designated representative crops will provide adequate information on residue levels in crops and subgroups.

Subgroups will provide flexibility in the establishment of crop group tolerances which can be important for international harmonization. Tomatoes and peppers are the most commonly grown fruiting vegetable in the world and are increasing in popularity. They are used in various ethnic cuisines and per capita consumption has also increased.

B. Crop Group 10-09 Citrus Fruit Group

EPA is proposing to revise and expand the citrus crop group. EPA will retain pre-existing Crop Group 10 and title the revised group as Crop Group 10-09.

1. Add commodities. Crop Group 10 currently contains the following 12 commodities: (1) Calamondin, Citrus mitis x Citrofortunella mitis; (2) Citrus citron, Citrus medica; (3) Citrus hybrids, Citrus spp. includes chironja, tangelo, tangor; (4) Grapefruit, Citrus paradisi; (5) Kumquat, Fortunella spp.; (6) Lemon, Citrus jambhiri, Citrus limon; (7) Lime, Citrus aurantiifolia; (8) Mandarin (tangerine), Citrus reticulata; (9) Orange, sour, Citrus aurantium; (10) Orange, sweet, Citrus sinensis; (11) Pummelo, Citrus grandis, Citrus maxima; (12) Satsuma mandarin, Citrus unshiu.

EPA proposes to expand Crop Group 10-09 to include 16 commodities as follows: (1) Australian desert lime, Eremocitrus glauca (Lindl.) Swingle; (2) Australian finger lime, Microcitrus australasica (F. Muell.) Swingle; (3) Australian round lime, Microcitrus australis (A. Cunn. ex Mudie) Swingle; (4) Brown River finger lime, Microcitrus papuana Winters; (5) Japanese summer grapefruit, Citrus natsudaidai Hayata; (6) Mediterranean Mandarin, Citrus deliciosa Ten; (7) Mount White lime, Microcitrus garrowayae (F. M. Bailey) Swingle; (8) New Guinea wild lime, Microcitrus warburgiana (F. M. Bailey) Tanaka; (9) Russell River lime, Microcitrus inodora (F. M. Bailey) Swingle; (10) Sweet lime, Citrus limetta Risso; (11) Tachibana orange, Citrus tachibana (Makino) Tanaka; (12) Tahiti Lime, Citrus latifolia (Yu. Tanaka) Tanaka; (13) Tangerine (Mandarin), Citrus reticulata Blanco; (14) Tangor, Citrus nobilis lour. (15) Trifoliate orange, Poncirus trifoliata (L.) Raf.; (16) Uniq fruit, Citrus aurantium Tangelo group; including cultivars, varieties and/or hybrids of these.

The proposed addition of crops to this crop group is based on similarities and characteristics of the Rutaceae plant family. These added crops are all citrus fruits, have similar cultural practices, edible food portions, residue levels, geographical locations, pest problems and established tolerances.

2. Change the crop group name. EPA proposes to change the name of ‘‘Crop Group 10: Citrus Fruits Group (Citrus spp., Fortunella spp.)’’ to ‘‘Crop Group 10-09: Citrus Fruit Group”. The name change reflects the addition of the new commodities to the group in that it includes commodities other than Fortunella spp.

3. Create new subgroups. EPA proposes to add three new subgroups to revised Crop Group 10-09 as follows:

i. Orange Subgroup 10-09A. Representative commodities. Orange or Tangerine/Mandarin. Twelve commodities are included in this subgroup: Calamondin; Citron; Citrus hybrids; Mediterranean Mandarin; Orange, sour; Orange, sweet; Satsuma mandarin; Tachibana orange; Tangelo; Tangerine (Mandarin); Tangor; Trifoliate orange; including cultivars, varieties and/or hybrids of these.

ii. Lemon/Lime Subgroup 10-09B. Representative commodities. Lemon or Lime. Twelve commodities are included in this subgroup: Australian desert lime; Australian finger lime; Australian round lime; Brown River finger lime; Kumquat; Lemon; Lime; Mount White lime; New Guinea wild lime; Russell River lime; Sweet lime; Tahiti Lime; including cultivars, varieties and/or hybrids of these.

iii. Grapefruit Subgroup 10-09C. Representative commodity. Grapefruit. Five commodities are included in this subgroup: Grapefruit; Japanese summer grapefruit; Pummelo; Tangelo; Uniq fruit; including cultivars, varieties and/or hybrids of these.

The creation of these subgroups and the choice of representative commodities for these subgroups are based on similarities in pest pressures, cultural practices, the edible portion of the commodity, and the geographic locations where these crops are grown. EPA has also determined that residue data on the designated representative crops will provide adequate information on residue levels in crops in the subgroup. The subgroups provide flexibility in the establishment of crop group tolerances which can be important for international harmonization.

4. Revise the representative commodities. EPA proposes to revise the representative crops for Crop Group 10-09 as follows: ‘‘Sweet orange, lemon and grapefruit’’ will be changed to ‘‘Orange or tangerine/mandarin, lemon or lime and grapefruit.’’ This change reflects the broader range of commodities in this group.

C. Crop Group 11-09: Pome Fruit Group

EPA is proposing to revise and expand the pome fruit crop. EPA will retain pre-existing Pome Fruit Crop Group 11 and title the revised group as Crop Group 11-09: Pome Fruit Group.

Add commodities. Crop Group 11 currently contains the following seven commodities: (1) Apple, Malus domestica Borkh; (2) Crabapple, Malus spp.; (3) Loquat, Eriobotrya japonica (Thunb.) Lindl.; (4) Mayhaw, Crataegus spp.; (5) Pear, Pyrus communis L.; (6) Pear, oriental, Pyrus communis L.; (7) Quince, Cydonia oblonga Mill.;

EPA proposes to expand Crop Group 11 to include five commodities as follows: (1) Azarole, Crataegus azarolus L.; (2) Medlar, Mespilus germanica L.; (4) Pear, Asian, Pyrus pyrifolia (Burm f.) Nakai var. culta (Makino) Nakai; (5) Tejocote, Crataegus mexicana DC; including varieties, cultivars and/or hybrids of these.

The proposed addition of crops to this crop group is based on similarities and characteristics of the Pome Fruit Crop Group 11 as well as a comparison of pome fruits, their cultural practices, edible food portions, residue levels, geographical locations, pest problems, and established tolerances.

D. New Crop Group 20 Oilseed Group

EPA proposes to add a new crop group, entitled Oilseed Group as Crop Group 20. Oilseed group will include those crops from which oil is extracted from their seed and used to produce edible or inedible oils as well high-protein livestock meal.

1. Commodities in group and representative commodities. EPA proposes to include 32 commodities in Crop Group 20: (1) Borage, Borago officinalis L.; (2) Calendula, Calendula officinalis L.; (3) Castor oil plant, Ricinus communis L.; (4) Chinese tallowtree, Triadica sebifera (L.) Small; (5) Cottonseed, Gossypium spp.; (6) Crambe, Crambe hispanica L., Crambe abyssinica Hochst. ex R.E. Fr.; (7) Cuphea, Cuphea hyssopifolia Kunth; (8) Echium, Echium plantagineum L.; (9) Euphorbia, Euphorbia esula L.; (10) Evening primrose, Oenothera biennis L.; (11) Flax seed, Linum usitatissimum L.; (12) Gold of pleasure, Camelina sativa (L.) Crantz; (13) Hare's ear mustard, Conringia orientalis (L.) Dumort.; (14) Jojoba, Simmondsia chinensis (Link) C.K. Schneid.; (15) Lesquerella, Lesquerella recurvata (Engelm. ex A. Gray) S. Watson; (16) Lunaria, Lunaria annua L.; (17) Meadowfoam, Limnanthes alba Hartw. ex Benth.; (18) Milkweed, Asclepias spp. L.; (19) Mustard seed, Brassica hirta Moench, Sinapis alba L. subsp. alba; (20) Niger seed, Guizotia abyssinica (L.f.) Cass.; (21) Oil radish, Raphanus sativus L. var. oleiformis Pers.; (22) Poppy seed, Papaver somniferum L. subsp. somniferum; (23) Rapeseed, Brassica spp.; Brassica napus L.; (24) Rose hip, Rosa rubiginosa L.; (25) Safflower, Carthamus tinctorious L.; (26) Sesame, Sesamum indicum L.; Sesamum radiatum Schumach. & Thonn.; (27) Stokes aster, Stokesia laevis (Hill) Greene; (28) Sunflower, Helianthus annuus L.; (29) Sweet rocket, Hesperis matronalis L.; (30) Tallowwood, Ximenia americana L.; (31) Tea oil plant, Camellia oleifera C. Abel; (32) Vernonia, Vernonia galamensis (Cass.) Less. The representative commodities proposed for this group are cottonseed, rapeseed (canola varieties only), and sunflower.

Oilseed Crop Group 20 is proposed based on similarities in cultural practices, edible food portions, livestock feed items, residue levels, geographical locations, and pest problems. The Oilseed crop group should facilitate the approval in the United States of additional pesticides for these crops and both domestic and foreign tolerances, increasing opportunities for producers to grow new high value alternative minor crops, including potential biofuel crops. The proposed representative commodities were chosen based on the scope of their production and economic importance as well as on the similarities in cultural practices, pest problems, and commercial production. These three representative commodities account for greater than 95% of the harvested acres for the entire Oilseed crop group.

2. Create crop subgroups. EPA proposes to add three crop subgroups for Crop Group 20. The subgroups are:

i. Rapeseed Subgroup 20A. Representative commodity: Rapeseed, canola varieties only. The 17 commodities proposed for inclusion in this subgroup are: Borage; Crambe; Cuphea; Echium; Flax seed; Gold of pleasure; Hare's ear mustard; Lesquerella; Lunaria; Meadowfoam; Milkweed; Mustard seed; Oil radish; Poppy seed; Rapeseed; Sesame; Sweet rocket.

ii. Sunflower Subgroup 20B. Representative commodity: Sunflower, seed. The 14 commodities proposed for inclusion in this subgroup are: Calendula; Castor oil plant; Chinese tallowtree; Euphorbia; Evening primrose; Jojoba; Niger seed; Rose hip; Safflower; Stokes aster; Sunflower; Tallowwood; Tea oil plant; Vernonia.

iii. Cottonseed Subgroup 20C. Representative commodity: Cottonseed. The one commodity proposed for inclusion in this subgroup is: Cottonseed.

The creation of these subgroups and the choice of representative commodities for these subgroups are based on similarities in pest pressures, cultural practices, the edible portion of the commodity, and the geographic locations where these crops are grown. EPA has also determined that residue data on the designated representative crops will provide adequate information on residue levels in crops and subgroup. The subgroups provide flexibility in the establishment of crop group tolerances which can be important for international harmonization.

E. Amendment to Definitions and Interpretations

EPA proposes to revise the commodity definition in 40 CFR 180.1(g) for Citrus Group as follows:

Tangerines = Tangerine (mandarin or mandarin orange), Clementine, Mediterranean mandarin, Satsuma mandarin, Tangelo, Tangor, cultivars and varieties.

F. Amendment to 40 CFR 180.1(h)

EPA proposes to delete 40 CFR 180.1(h) that reads: “Unless otherwise specified, tolerances and exemptions established under the regulations in this part apply to residues from only preharvest application of the chemical.” EPA is proposing to delete this provision for two reasons. First, EPA believes that use information should generally be avoided in the tolerance listings because such information is difficult to enforce and is more completely addressed through other means, such as pesticide labels. Second, removal of § 180.1(h) will not result in any increased exposure under existing tolerance due to expansion of post-harvest uses cannot be expanded absent pre-market approval by EPA under the Federal Insecticide, Fungicide, and Rodenticide Act, 7 U.S.C. 136 et seq., and the FFDCA, as appropriate.

IV. Statutory and Executive Order Reviews

A. Executive Order 12866

Under Executive Order 12866, entitled Regulatory Planning and Review (58 FR 51735, October 4, 1993), the Office of Management and Budget (OMB) has designated this proposed rule as a not-significant regulatory action under section 3(f) of the Executive Order.

This action is one in a series of planned crop group updates. EPA prepared an analysis of the potential costs and benefits related to its pesticide tolerance crop grouping regulations for the first crop grouping final rule published December 7, 2007 (72 FR 69150). This analysis is contained in ‘‘Economic Analysis of the Expansion of the Crop Grouping Program.’’ A copy of the analysis is available in the docket and is briefly summarized here.

This is a burden-reducing regulation. Crop grouping has saved money by allowing the results of pesticide exposure studies for one crop to be applied to other, similar crops. This action proposes to expand certain existing crop groups and to add one new crop group. Crop groupings will assist in making available lower risk pesticides for minor crops both domestically and in countries that export food to the U.S. Minor crop and specialty crop producers will benefit because lower registration costs will encourage pesticide manufacturers to register more pesticides for use on minor and/or specialty crops, providing these growers with additional lower-risk pesticide options. The increased coverage of tolerances to imported commodities may result in a larger supply of imported and domestically produced specialty produce at potentially lower costs and treated with lower-risk pesticides which also benefit consumers. EPA believes that data from representative crops will not underestimate the public exposure to pesticide residues through the consumption of treated crops. EPA and the IR-4 Project, will more efficiently use resources as a result of the rule. EPA will conserve resources if, as expected, new or expanded crop groups result in fewer emergency pesticide use requests from specialty crop growers. Further, new and expanded crop groups will likely reduce the number of separate risk assessments and tolerance rulemakings that EPA will have to conduct. Further benefits come from international harmonization of crop classification and nomenclature, harmonized commodity import and export standards and increased potential for resource sharing between EPA and pesticide regulatory agencies in other countries. Revisions to the crop grouping program will result in no appreciable costs or negative impacts to consumers, minor crop producers, specialty crop producers, pesticide registrants, the environment, or human health. No crop group tolerance for a pesticide can be established unless EPA determines that it is safe.

An example of the benefits of group groupings can be shown through of the impact of changes to Crop Group 3 in a prior rulemaking (72 FR 69150, December 7, 2007). That rulemaking expanded Crop Group 3, Bulb Vegetables from 7 to 25 crops, an increase of 18 from the original crop group. Prior to the expansion of the subgroup, adding tolerances for the 18 new crops would have required 18 field trials at a cost of approximately $5.4 million (assuming $300,000 per field trial), whereas after promulgation of the expanded group these 18 new crops could obtain coverage under a Crop Group 3 tolerance with no field trials in addition to those required on the representative commodities (which did not change with the expansion of the group). Fewer field trials means a greater likelihood that these commodities will obtain tolerance coverage under the FFDCA, aiding growers, and the administrative costs of both the IR-4 testing process and the EPA review process will be reduced.

The benefits of the rule proposed today can be shown through the example of the impact of changes to Crop Group 3 in a prior rulemaking (72 FR 69150, December 7, 2007). That rulemaking expanded Crop Group 3, Bulb Vegetables from 7 to 25 crops, an increase of 18 from the original crop group. Prior to the expansion of the subgroup, adding tolerances for the 18 new crops would have required 18 field trials at a cost of approximately $5.4 million (assuming $300,000 per field trial), whereas after promulgation of the expanded group these 18 new crops could obtain coverage under a Crop Group 3 tolerance with no field trials in addition to those required on the representative commodities (which did not change with the expansion of the group). Fewer field trials means a greater likelihood that these commodities will obtain tolerance coverage under the FFDCA, aiding growers, and the administrative costs of both the IR-4 testing process and the EPA reviewprocess will be reduced.

B. Paperwork Reduction Act

This rule does not contain any new information collection requirements that would need approval by OMB under the provisions of the Paper Reduction Act (PRA), 44 U.S.C. 3501 et seq. However, the proposed rule, when adopted as a final rule, is expected to reduce mandatory paperwork due to a reduction in required studies. The final rule will have the effect of reducing the number of residue chemistry studies because fewer representative crops would need to be tested under a crop grouping scheme, than would otherwise be required.

C. Regulatory Flexibility Act

Pursuant to section 605(b) of the Regulatory Flexibility Act (RFA), 5 U.S.C. 601 et seq., the Agency hereby certifies that this proposed rule, when adopted as final, will not have a significant adverse economic impact on a substantial number of small entities. This proposed ruledoes not have any direct adverse impacts on small businesses, small non-profit organizations, or small local governments. For purposes of assessing the impacts of today’s proposed rule on small entities, small entity is defined as: (1) A small business according to the small business size standards established by the Small Business Administration (SBA); (2) a small governmental jurisdiction that is a government of a city, county, town, school district or special district with a population of less than 50,000; and (3) a small organization that is any not-for-profit enterprise which is independently owned andoperated and is not dominant in its field.

In determining whether a rule has a significant economic impact on a substantial number of small entities, the impact of concern is any significant adverse economic impact on small entities, since the primarypurpose of the regulatory flexibility analyses is to identify and addressregulatory alternatives ‘‘which minimize any significant economicimpact of the proposed rule on small entities’’ (5 U.S.C. sections 603 and604). Thus, an agency may certify that a rule will not have a significant economic impact on a substantial number of small entities if the rule relieves a regulatory burden, or otherwise has positive economic effects on all of the small entities subject to the rule.

This proposed rule provides regulatory relief and regulatory flexibility. The new or expanded crop groups ease the process for pesticide manufacturers to obtain pesticide tolerances on greater numbers of crops. Pesticides will be more widely available to growers for use on crops, particularly specialty crops.

D. Unfunded Mandates Reform Act

Under Title II of the Unfunded Mandates Reform Act of 1995 (UMRA) (Public Law 104-4), EPA has determined that this proposed rule does not contain a Federal mandate that may result in expenditures of $100 million or more for State, local, and tribal governments, in the aggregate,or the private sector in any 1 year. Accordingly, this rule is not subject to the requirements of sections 202, 203, 204, and 205 of UMRA.

E. Executive Order 13132

Pursuant to Executive Order 13132, entitled Federalism (64 FR 43255, August 10, 1999), EPA has determined that this proposed rule does not have federalism implications, because it will not have substantial direct effects on the states, on the relationship between the national government and the states, or on the distribution of power and responsibilities among the various levels of government, as specified in the Order. Thus, Executive Order 13132 does not apply to this proposed rule.

F. Executive Order 13175

As required by Executive Order 13175, entitled Consultation and Coordination with Indian Tribal Governments (65 FR 67249, November 6, 2000), EPA has determined that this proposed rule does not have tribal implications because it will not have any affect on tribal governments, on the relationship between the Federal government andthe Indian tribes, or on the distribution of power and responsibilities between the Federal government and Indian tribes, as specified in the Order. Thus, Executive Order 13175 does not apply to this proposed rule.

G. Executive Order 13045

Executive Order 13045, entitled Protection of Children from Environmental Health Risks and Safety Risks (62 FR 19885, April 23, 1997) does not apply to this proposed rule because this action is not designated as an economically significant regulatory action as defined by Executive Order 12866 (see Unit IV.A.), nor does it establish an environmental standard, or otherwise have a disproportionate effect on children.

H. Executive Order 13211

This proposed rule is not subject to Executive Order 13211, entitledActions Concerning Regulations that Significantly Affect Energy Supply,Distribution, or Use (66 FR 28355, May 22, 2001) because it is not designated as a regulatory action as defined by Executive Order 12866 (see Unit IV.A.), nor is it likely to have any adverse effect on the supply, distribution, or use of energy.

I. National Technology Transfer and Advancement Act

Section 12(d) of the National Technology Transfer and Advancement Act of 1995 (NTTAA), (15 U.S.C. 272 note) directs EPA to use voluntary consensus standards in its regulatory activities unless to do so would be inconsistent with applicable law or impractical. Voluntary consensus standards are technical standards (e.g., materials specifications, test methods, and sampling procedures) that are developed or adopted by voluntary consensus standards bodies. This proposed rule does not impose any technical standards that would require EPA to consider any voluntary consensus standards.

J. Executive Order 12898

Under Executive Order 12898, entitled Federal Actions to Address Environmental Justice in Minority Populations and Low-Income Populations (59 FR 7629, February 16, 1994), the Agency has not considered environmental justice-related issues because this proposed rule does not have an adverse impact on the environmental and health conditions in low-income and minority communities.

List of Subjects in 40 CFR Part 180

Environmental protection, Administrative practice and procedure, Agricultural commodities.

Dated: December 22, 2009.
Stephen A. Owens,
Assistant Administrator for Prevention, Pesticides and Toxic Substances.

Therefore, it is proposed that 40 CFR chapter I be amended as follows:

PART 180—[AMENDED]

1. The authority citation for part 180 would continue to read as follows:

Authority: 21 U.S.C. 321(q). 346a and 371.

2. Section 180.41 is amended as follows:

a. By redesignating paragraphs (c)(10) - (c)(22) as paragraphs (c)(11) - (c)(23), respectively, and by adding a new paragraph (c)(10).

b. By redesignating newly redesignated paragraphs (c)(13) - (c)(23) as paragraphs (c)(14) - (c)(24), respectively, and by adding a new paragraph (c)(13).

c. By redesignating newly redesignated paragraphs (c)(15) - (c)(24) as paragraphs (c)(16) - (c)(25), respectively, and by adding new paragraph (c)(15). and

d. By redesignating newly redesignated paragraph (c)(25) as paragraph (c)(26), and by adding a new paragraph (c)(25).

The amendments read as follows:

§ 180.41 Crop group tables.

(c) * * *

(10) Crop Group 8-09. Fruiting Vegetable Group.

(i) Representative commodities. Tomato (standard size) and one cultivar of small tomato; bell pepper and one cultivar of nonbell pepper; and one cultivar of small nonbell pepper or one cultivar of small eggplant.

(ii) Commodities. The following is a list of all commodities included in the Crop Group 8-09.

Table 1—Crop Group 8-09: Fruiting Vegetable Group
Commodities | Related crop subgroups
African eggplant, Solanum macrocarpon L | 8-09B, 8-09C
Bush tomato, Solanum centrale J.M. Black | 8-09A
Cocona, Solanum sessiliflorum Dunal | 8-09A
Currant tomato, Lycopersicon pimpinellifolium (L.) Mill. | 8-09A
Eggplant, Solanum melongena L. | 8-09B, 8-09C
Garden huckleberry, Solanum scabrum Mill | 8-09A
Goji berry, Lycium barbarum L. | 8-09A
Groundcherry, Physalis alkekengi L., P. grisea (Waterf.) M. Martinez, P. peruvian L., P. pubescens L. | 8-09A
Martynia, Proboscidea louisianica (Mill.) Thell. | 8-09B, 8-09C
Naranjilla, Solanum quitoense Lam | 8-09A
Okra, Abelmoschus esculentus (L.) Moench | 8-09B, 8-09C
Pea eggplant, Solanum torvum Sw. | 8-09B, 8-09C
Pepino, Solanum muricatum Aiton | 8-09B, 8-09C
Pepper, bell, Capsicum annuum L. var. annuum, Capsicum spp. | 8-09B
Pepper, nonbell, Capsicum chinese Jacq., C. annuum L. var. annuum, C. frutescens L., C. baccatum L., C. pubescens Ruiz & Pav., Capsicum spp | 8-09B, 8-08C
Roselle, Hibiscus sabdariffa L. | 8-09B, 8-09C
Scarlet eggplant, Solanum aethiopicum L. | 8-09B, 8-09C
Sunberry, Solanum retroflexum Dunal | 8-09A
Tomatillo, Physalis philadelphica Lam. | 8-09A
Tomato, Solanum lycopersicon L., Solanum lycopersicum L. var. lycopersicum | 8-09A
Tree tomato, Solanum betaceum Cav. | 8-09A
Cultivars, varieties and/or hybrids of these. |

(iii) Table. The following Table 2 identifies the crop subgroups for Crop Group 8-09, specifies the representative commodities for each subgroup and lists all the commodities included in each subgroup.

Table 2—Crop Group 8-09: Subgroup Listing
Representative commodities | Commodities
Crop Subgroup 8-09A. Tomato subgroup
Tomato (Standard size and one cultivar of small tomato). | Bush tomato; Cocona; Currant tomato; Garden huckleberry; Goji berry; Groundcherry; Naranjilla; Sunberry; Tomatillo; Tomato; Tree tomato; cultivars, varieties, and/or hybrids of these.
Crop Subgroup 8-09B Pepper/Eggplant subgroup
Bell pepper and one cultivar of nonbell pepper. | African eggplant; Bell pepper; Eggplant; Martynia; Nonbell pepper; Okra; Pea eggplant; Pepino; Roselle, Scarlet eggplant; cultivars, varieties, and/or hybrids of these.
Crop Subgroup 8-09C Nonbell pepper/Eggplant subgroup
One cultivar small nonbell pepper or one cultivar of small eggplant. | African eggplant; Eggplant; Martynia; Nonbell pepper; Okra; Pea eggplant; Pepino; Roselle, Scarlet eggplant; cultivars, varieties, and/or hybrids of these.

(13) Crop Group 10-09. Citrus Fruit Group.

(i) Representative commodities. Orange or Tangerine/Mandarin, Lemon or Lime, and Grapefruit

(ii) Commodities. The following is a list of all the commodities in Crop Group 10:

Table 1—Crop Group 10-09: Citrus Fruit Group
Commodities | Related crop subgroups
Australian desert lime, Eremocitrus glauca (Lindl.) Swingle | 10-09B
Australian finger lime, Microcitrus australasica (F. Muell.) Swingle | 10-09B
Australian round lime, Microcitrus australis (A. Cunn. ex Mudie) Swingle | 10-09B
Brown River finger lime, Microcitrus papuana Winters | 10-09B
Calamondin, Citrofortunella microcarpa (Bunge) Wijnands | 10-09A
Citron, Citrus medica L | 10-09A
Citrus hybrids, Citrus spp. Eremocitrus spp., Fortunella spp., Microcitrus spp., and Poncirus spp. | 10-09A
Grapefruit, Citrus paradisi Macfad. | 10-09C
Japanese summer grapefruit, Citrus natsudaidai Hayata | 10-09C
Kumquat, Fortunella spp. | 10-09B
Lemon, Citrus limon (L.) Burm. f. | 10-09B
Lime, Citrus aurantiifolia (Christm.) Swingle | 10-09B
Mediterranean Mandarin, Citrus deliciosa Ten. | 10-09A
Mount White lime, Microcitrus garrowayae (F. M. Bailey) Swingle | 10-09B
New Guinea wild lime, Microcitrus warburgiana (F. M. Bailey) Tanaka | 10-09B
Orange, sour, Citrus aurantium L. | 10-09A
Orange, sweet, Citrus sinensis (L.) Osbeck | 10-09A
Pummelo, Citrus maxima (Burm .) Merr. | 10-09C
Russell River lime, Microcitrus inodora (F.M. Bailey) Swingle | 10-09B
Satsuma mandarin, Citrus unshiu Marcow. | 10-09A
Sweet lime, Citrus limetta Risso | 10-09B
Tachibana orange, Citrus tachibana (Makino) Tanaka | 10-09A
Tahiti Lime, Citrus latifolia (Yu. Tanaka) Tanaka | 10-09B
Tangelo, Citrus x tangelo J.W. Ingram & H.E. Moore | 10-09A, 10-09C
Tangerine (Mandarin), Citrus reticulata Blanco | 10-09A
Tangor, Citrus nobilis Lour. | 10-09A
Trifoliate orange, Poncirus trifoliata (L.) Raf. | 10-09A
Uniq fruit, Citrus aurantium Tangelo group | 10-09C
Cultivars, varieties and/or hybrids of these.

(iii) Table. The following Table 2 identifies the crop subgroups for Crop Group 10-09, specifies the representative commodities for each subgroup and lists all the commodities included in each subgroup.

Table 2—Crop Group 10-09: Subgroup Listing
Representative commodities | Commodities
Crop Subgroup 10-09A. Orange subgroup
Orange or tangerine/mandarin | Calamondin; Citron; Citrus hybrids; Mediterranean Mandarin; Orange, sour; Orange, sweet; Satsuma mandarin; Tachibana orange; Tangerine (Mandarin); Tangelo, Tangor; Trifoliate orange; cultivars, varieties, and/or hybrids of these.
Crop Subgroup 10-09B. Lemon/Lime subgroup
Lemon or lime | Australian desert lime; Australian finger-lime; Australian round lime; Brown River finger lime; Kumquat; Lemon; Lime; Mount White Lime; New Guinea wild lime; Russell River Lime; Sweet lime; Tahiti Lime; cultivars, varieties, and/or hybrids of these varieties.
Crop Subgroup 10-09C. Grapefruit subgroup
Grapefruit | Grapefruit; Japanese summer grapefruit; Pummelo; Tangelo; Uniq fruit; cultivars, varieties, and/or hybrids of these.

(15) Crop Group 11-09. Pome Fruit Group.

(i) Representative commodities. Apple and Pear.

(ii) Commodities. The following is a list of all the commodities in Crop Group 11-09.

Table 1—Crop Group 11-09: Pome Fruit Group—Commodities
Apple, Malus domestica Borkh
Azarole, Crataegus azarolus L.
Crabapple, Malus sylvestris (L.) Mill., Malus prunifolia (Willd.) Borkh.
Loquat, Eriobotrya japonica (Thunb.) Lindl.
Mayhaw, Crataegus aestivalis (Walter) Torr. & A. Gray, C. opaca Hook. & Arn., and C. rufula Sarg.
Medlar, Mespilus germanica L.
Pear, Pyrus communis L
Pear, Asian, Pyrus pyrifolia (Burm. f.) Nakai var. culta (Makino) Nakai
Quince, Cydonia oblonga Mill
Quince, Chinese, Chaenomeles speciosa (Sweet) Nakai, Pseudocydonia sinensis (Thouin) C.K. Schneid.
Quince, Japanese, Chaenomeles japonica (Thunb.) Lindl. ex Spach
Tejocote, Crataegus mexicana DC.
Cultivars, varieties and/or hybrids of these.

(25) Crop Group 20. Oilseed Group.

(i) Representative commodities. Rapeseed (canola varieties only); sunflower, seed and cottonseed.

(ii) Table. The following Table 1 lists all the commodities listed in Crop Group 20 and identifies the related crop subgroups and includes cultivars and/or varieties of these commodities.

Table 1—Crop Group 20: Oilseed Group
Commodities | Related crop subgroups
Borage, Borago officinalis L. | 20A
Calendula, Calendula officinalis L. | 20B
Castor oil plant, Ricinus communis L. | 20B
Chinese tallowtree, Triadica sebifera (L.) Small | 20B
Cottonseed, Gossypium spp. L. | 20C
Crambe, Crambe hispanica L.; Crambe abyssinica Hochst. ex R.E. Fr. | 20A
Cuphea, Cuphea hyssopifolia Kunth | 20A
Echium, Echium plantagineum L. | 20A
Euphorbia, Euphorbia esula L. | 20B
Evening primrose, Oenothera biennis L. | 20B
Flax seed, Linum usitatissimum L. | 20A
Gold of pleasure, Camelina sativa (L.) Crantz | 20A
Hare's ear mustard, Conringia orientalis (L.) Dumort. | 20A
Jojoba, Simmondsia chinensis (Link) C.K. Schneid. | 20B
Lesquerella, Lesquerella recurvata (Engelm. ex A. Gray) S. Watson | 20A
Lunaria, Lunaria annua L. | 20A
Meadowfoam, Limnanthes alba Hartw. ex Benth. | 20A
Milkweed, Asclepias spp. L. | 20A
Mustard seed, Brassica hirta Moench, Sinapis alba L. subsp. alba | 20A
Niger seed, Guizotia abyssinica (L.f.) Cass. | 20B
Oil radish, Raphanus sativus L. var. oleiformis Pers | 20A
Poppy seed, Papaver somniferum L. subsp. Somniferum | 20A
Rapeseed, Brassica spp.; Brassica napus L. | 20A
Rose hip, Rosa rubiginosa L. | 20B
Safflower, Carthamus tinctorious L. | 20B
Sesame, Sesamum indicum L.; Sesamum radiatum Schumach. & Thonn. | 20A
Stokes aster, Stokesia laevis (Hill) Greene | 20B
Sunflower, Helianthus annuus L. | 20B
Sweet rocket, Hesperis matronalis L. | 20A
Tallowwood, Ximenia americana L. | 20B
Tea oil plant, Camellia oleifera C. Abel | 20B
Vernonia, Vernonia galamensis (Cass.) Less. | 20B
Cultivars, varieties, and/or hybrids of these. |

(iii) Table. The following Table 2 identifies the crop subgroups for Crop Group 20, specifies the representative commodities for each subgroup and lists all the commodities included in each subgroup.

Table 2—Crop Group 20 Subgroup Listing
Representative commodities | Commodities
Crop Subgroup 20A. Rapeseed subgroup
Rapeseed, canola varieties only. | Borage, Crambe, Cuphea, Echium, Flax seed, Gold of pleasure, Hare's ear mustard, Lesquerella, Lunaria, Meadowfoam, Milkweed, Mustard seed, Oil radish, Poppy seed, Rapeseed, Sesame, Sweet rocket, cultivars, varieties, and/or hybrids of these.
Crop Subgroup 20B. Sunflower subgroup
Sunflower, seed. | Calendula, Castor oil plant, Chinese tallowtree, Euphorbia, Evening primrose, Jojoba, Niger seed, Rose hip, Safflower, Stokes aster, Sunflower, Tallowwood, Tea oil plant, Vernonia, cultivars, varieties, and/or hybrids of these.
Crop Subgroup 20C. Cottonseed Subgroup
Cottonseed. | Cottonseed, cultivars, varieties, and/or hybrids of these.

[FR Doc. E10-31397 Filed 01-05-10; 8:45 am]

BILLING CODE 6560-50-S